DEPARTMENT OF COMMERCE

International Trade Administration

United States Travel and Tourism Advisory Board Charter Renewal

AGENCY: International Trade Administration, U.S. Department of Commerce.

ACTION: Notice.

SUMMARY: The Chief Financial Officer and Assistant Secretary of Commerce for Administration, after consultation with the General Services Administration, renewed the Charter for the United States Travel and Tourism Advisory Board on August 16, 2019.

DATES: The Charter for the United States Travel and Tourism Advisory Board was renewed on August 16, 2019.

FOR FURTHER INFORMATION CONTACT: Brian Beall, the United States Travel and Tourism Advisory Board, Room 10003, 1401 Constitution Avenue NW, Washington, DC 20230, telephone: 202-482-0140, email: TTAB@trade.gov.

SUPPLEMENTARY INFORMATION: The Chief Financial Officer and Assistant Secretary of Commerce for Administration, after consultation with the General Services Administration, renewed the United States Travel and Tourism Advisory Board on August 16, 2019. This Notice is published in accordance with the Federal Advisory Committee Act (FACA) (Title 5, United States Code, Appendix, § 9). It has been determined that the Committee is necessary and in the public interest. The Committee was established pursuant to Commerce's authority under 15 U.S.C. 1512, established under the Federal Advisory Committee Act (FACA), as amended, 5 U.S.C., App., after consultation with the General Services Administration. The Committee provides advice to the Secretary of Commerce on government policies and programs that affect the U.S. travel and tourism industry.

Brian Beall,
Deputy Director for Policy and Planning, National Travel and Tourism Office, International Trade Administration, U.S. Department of Commerce.

[FR Doc. 2019-19721 Filed 9-11-19; 8:45 am]

BILLING CODE 3510-DR-P